DEPARTMENT OF LABOR

Employment and Training Administration

Notice of Availability of Funds and Solicitation for Grant Applications for Strategies Targeting Characteristics Common to Female Ex-Offenders

AGENCY: Employment and Training Administration, Labor.

ACTION: Notice of Solicitation for Grant Applications (SGA). Funding Opportunity Number: SGA/DFA PY-12-04.

SUMMARY: The U.S. Department of Labor (DOL), Employment and Training Administration (ETA), announces the availability of $12 million in grant funds authorized by the Workforce Investment Act to serve adult and youth ex-offenders. Services for ex-offenders will be targeted to females, but must also be open to eligible male ex-offenders.

Strategies Targeting Characteristics Common to Female Ex-Offenders grants will be awarded through a competitive process. Under this solicitation, DOL expects to award eight grants up to $1.5 million each to cover a 37-month period of performance. These grants will include an integrated strategy of recruitment and assessment, empowerment and self-development, case management, education and training, workforce development, follow-up, and state/local partnerships.

The complete SGA and any subsequent SGA amendments in connection with this solicitation are described in further detail on ETA's Web site at http://www.doleta.gov/grants/ or on http://www.grants.gov. The Web sites provide application information, eligibility requirements, review and selection procedures, and other program requirements governing this solicitation.

DATES: The closing date for receipt of applications under this announcement is April 17, 2013. Applications must be received no later than 4:00:00 p.m. Eastern Time.

FOR FURTHER INFORMATION CONTACT: Denise Roach, 200 Constitution Avenue NW., Room N-4716, Washington, DC 20210; Telephone: 202-693-3820.

Signed February 26, 2013, in Washington, DC.
Eric D. Luetkenhaus,
Grant Officer, Employment and Training Administration.

[FR Doc. 2013-04895 Filed 3-1-13; 8:45 am]

BILLING CODE 4510-FT-P